NATIONAL SCIENCE FOUNDATION

Agency Information Collection Activities: Comment Request; Grantee Reporting Requirements for Smart and Connected Communities (S&CC)

AGENCY: National Science Foundation.

ACTION: Notice.

SUMMARY: The National Science Foundation (NSF) is announcing plans to establish this collection. In accordance with the requirements of the Paperwork Reduction Act of 1995, we are providing the opportunity for public comment on this action. After obtaining and considering public comment, NSF will prepare the submission requesting Office of Management and Budget (OMB) clearance of this collection for no longer than 3 years.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

DATES: Written comments on this notice must be received by February 24, 2025 to be assured consideration. Comments received after that date will be considered to the extent practicable. Send comments to address below.

FOR FURTHER INFORMATION CONTACT: Suzanne H. Plimpton, Reports Clearance Officer, National Science Foundation, 2415 Eisenhower Avenue, Suite E6300, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Grantee Reporting Requirements for Smart and Connected Communities (S&CC).

OMB Number: 3145-NEW.

Expiration Date of Approval: Not applicable.

Type of Request: Intent to seek approval to establish an information collection.

Proposed Project: The purpose of the NSF Smart and Connected Communities (S&CC) program solicitation is to accelerate the creation of novel intelligent technologies and concepts through high-risk/high-reward research that addresses major challenges and issues faced by communities across the US. A “smart and connected community” is defined as a community that synergistically integrates intelligent technologies with the natural and built environments and with the functions of civic institutions and organizations. Proposals submitted to the program should be designed to advance one or more of the following community priorities: economic opportunity and growth; safety and security; human and environmental health and wellness; accessibility of critical services and resources; and the overall quality of life for those who live, work, learn, or travel within the community. To meet the goals of the program, researchers should work with community stakeholders to identify and define challenges the community faces, using that interaction and input to generate high-impact, use-inspired, basic research that advances science and engineering.

In addition to standard NSF annual and final report requirements, PIs for all S&CC award recipients will prepare a one-page graphic summary of their project that will be submitted no later than the due date of the first annual report and at the end of the award period. A five-minute project video is also required for all SCC-IRG and SCC-LSR recipients and will be due at the end of the award period. The video should present major project accomplishments. Award recipients must provide NSF permission to publish their video online for public access and/or to share it with interested parties. NSF anticipates the documents may be posted on the S&CC Virtual Organization or other appropriate website.

Use of the Information: NSF will use the information to understand and evaluate the outcomes of funded projects, to foster growth of new scientific communities, and to evaluate the progress of the S&CC program.

Estimate of Burden: 40 hours per award for 20-40 awards for a total of 800-1,600 hours.

Respondents: Universities and Colleges; Non-profit, non-academic organizations;

Estimated Number of Responses per Report: One from each 20-40 awardees annually.

Dated: December 19, 2024.
Suzanne H. Plimpton,
Reports Clearance Officer, National Science Foundation.

[FR Doc. 2024-30757 Filed 12-23-24; 8:45 am]

BILLING CODE 7555-01-P